DEPARTMENT OF TRANSPORTATION

Federal Aviation Administration

14 CFR Part 39

[Docket No. 2000-NM-150-AD; Amendment 39-13383; AD 2003-24-14]

RIN 2120-AA64

Airworthiness Directives; McDonnell Douglas Model DC-9-81 (MD-81), DC-9-82 (MD-82), DC-9-83 (MD-83), DC-9-87 (MD-87), and MD-88 Airplanes

AGENCY: Federal Aviation Administration, DOT.

ACTION: Final rule.

SUMMARY: This amendment adopts a new airworthiness directive (AD), applicable to all McDonnell Douglas Model DC-9-81 (MD-81), DC-9-82 (MD-82), DC-9-83 (MD-83), DC-9-87 (MD-87), and MD-88 airplanes. This action requires one-time inspections to detect discrepancies of electrical wiring installations in various areas of the airplane, and corrective action if necessary. The actions specified by this AD are intended to prevent smoke and fire in various areas of the airplane due to heat damage and/or electrical arcing of improperly installed wiring. This action is intended to address the identified unsafe condition.

DATES: Effective January 8, 2004.

The incorporation by reference of certain publications listed in the regulations is approved by the Director of the Federal Register as of January 8, 2004.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Elvin K. Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-9-81 (MD-81), DC-9-82 (MD-82), DC-9-83 (MD-83), DC-9-87 (MD-87), and MD-88 airplanes was published as a supplemental notice of proposed rulemaking (NPRM) in the Federal Register on July 24, 2003 (68 FR 43690). That action proposed to require one-time inspections to detect discrepancies of electrical wiring installations in various areas of the airplane, and corrective action if necessary.

Comments

Interested persons have been afforded an opportunity to participate in the making of this amendment. Due consideration has been given to the comments received.

Shorten Compliance Time

One commenter requests that the proposed six-year compliance time for performing a detailed inspection to detect discrepancies of exposed electrical wiring installations be shortened to between six months and one year. This commenter suggests that the proposed compliance time may be too long to fly safely with a potential unsafe condition for passengers and for people living under the flight paths. The commenter also suggests that airplane operators will likely delay necessary repairs until the final part of the proposed compliance time.

The FAA does not agree with the need for a shorter compliance time. In developing the proposed compliance time, we found that the six-year compliance time accommodates operators' schedules while still maintaining an adequate level of safety. We also considered that if discrepancies are found during the proposed inspections, corrective action must be taken before further flight. In consideration of these factors, we determined that the compliance time, as proposed, represents an appropriate interval. Operators are always permitted to accomplish the requirements of an AD at a time earlier than the specified compliance time. If additional data are presented that would justify a shorter compliance time, we may consider further rulemaking on this issue.

Revise Costs Based on Operator Experience

One commenter, on behalf of an airline operator, noted that the cost estimate of 46 work hours per airplane presented in the supplemental NPRM is too low and does not take into account operator experience in accomplishing the required detailed inspections. According to one commenter's experience, 92 work hours per airplane better represents the amount of time needed to complete the detailed inspections required by the proposed AD.

We infer that the commenter is requesting that the Cost Impact section of the supplemental NPRM be revised. We partially agree with the commenter's rationale. We agree that the specified work hours may not always accurately reflect the amount of time necessary to complete the required work for every airplane or for every operator. We also recognize that material and labor costs to fix any discrepancy cannot be accurately estimated for each airplane. However, as explained in the Cost Impact section of the supplemental NPRM, the economic analysis of the AD is limited to the cost of actions that would actually be required by the AD. The economic analysis does not consider the costs of conditional actions, such as repairing discrepancies found during a required inspection. Such conditional actions would be required to be accomplished—regardless of AD direction—to correct an unsafe condition identified in an airplane and to ensure operation of that airplane in an airworthy condition, as required by the Federal Aviation Regulations. No change to this AD is necessary regarding this issue.

Conclusion

After careful review of the available data, including the comments noted above, the FAA has determined that air safety and the public interest require the adoption of the rule as proposed.

Cost Impact

There are approximately 1,191 airplanes of the affected design in the worldwide fleet. Estimates of the costs of the required actions are provided in the following table:

Service bulletin | Work hours per airplane | Labor rate/hour | Cost per airplane | U.S. airplanes | U.S. fleet cost
MD80-24-176 | 8 | $65 | $520 | 732 | $380,640
MD80-24-177 | 5 | 65 | 325 | 732 | 237,900
MD80-24-178 | 8 | 65 | 520 | 732 | 380,640
MD80-24-179 | 8 | 65 | 520 | 732 | 380,640
MD80-24-180 | 8 | 65 | 520 | 732 | 380,640
MD80-24-181 | 6 | 65 | 390 | 732 | 285,480
MD80-24-182 | 3 | 65 | 195 | 732 | 142,740

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-24-14 McDonnell Douglas: Amendment 39-13383. Docket 2000-NM-150-AD.

Applicability: All Model DC-9-81 (MD-81), DC-9-82 (MD-82), DC-9-83 (MD-83), DC-9-87 (MD-87), and MD-88 airplanes; certificated in any category.

Compliance: Required as indicated, unless accomplished previously.

Note 1: The FAA recommends that the actions required by this AD be accomplished after replacing the metallized polyethyleneteraphthalate (MPET) insulation blankets, as required by AD 2000-11-02, amendment 39-11750.

To prevent smoke and fire in various areas of the airplane due to heat damage and/or electrical arcing of improperly installed wiring, accomplish the following:

Inspection

(a) Within 6 years after the effective date of this AD: Perform a detailed inspection to detect discrepancies of exposed electrical wiring installations as specified in Table 1 of this AD. Specific discrepancies are listed in paragraph 3.B.3. of each service bulletin. Prior to further flight thereafter, perform corrective actions in accordance with the service bulletin, as applicable.

Table 1.—Inspection Requirements
Inspect the electrical wiring installations in the— | In accordance with the following Boeing Service Bulletin—
(1) Flight compartment and forward drop ceiling | MD80-24-176, Revision 02, Excluding Appendix, dated January 21, 2003.
(2) Electrical/electronic compartment | MD80-24-177, Revision 02, Excluding Appendix, dated January 21, 2003.
(3) Forward passenger compartment from stations Y = 218.000 to Y = 846.000 | MD80-24-178, Revision 02, Excluding Appendix, dated January 21, 2003.
(4) Aft passenger compartment from stations Y = 846.000 to Y = 1338.000 | MD80-24-179, Revision 02, Excluding Appendix, dated January 21, 2003.
(5) Forward and mid cargo compartments from stations Y = 218.000 to Y = 811.000 | MD80-24-180, Revision 02, Excluding Appendix, dated January 21, 2003.
(6) Aft cargo compartment from stations Y = 1033.000 to Y = 1338.000 | MD80-24-181, Revision 02, Excluding Appendix, dated January 21, 2003.
(7) Forward accessory compartment from stations Y = 41.000 to Y = 70.000 | MD80-24-182, Revision 02, Excluding Appendix, dated January 21, 2003.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) Although the service bulletins identified in Table 1 of this AD specify that operators provide a report of inspection findings, this AD does not require such information.

(c) An inspection done before the effective date of this AD is acceptable for compliance with the inspection requirements of this AD, if accomplished in accordance with the corresponding service bulletin identified in Table 1 of this AD, the original version, dated July 14, 2000, or July 14, 2000; or Revision 01, dated June 12, 2001.

Alternative Methods of Compliance

(d) In accordance with 14 CFR 39.19, the Manager, Los Angeles Aircraft Certification Office, FAA, is authorized to approve alternative methods of compliance for this AD.

Incorporation by Reference

(e) Unless otherwise specified in this AD, the actions shall be done in accordance with the Boeing Service Bulletins in Table 2 of this AD, as applicable:

Table 2.—Boeing Service Bulletins
Service bulletin | Revision level | Date
MD80-24-176, Excluding Appendix | 02 | January 21, 2003.
MD80-24-177, Excluding Appendix | 02 | January 21, 2003.
MD80-24-178, Excluding Appendix | 02 | January 21, 2003.
MD80-24-179, Excluding Appendix | 02 | January 21, 2003.
MD80-24-180, Excluding Appendix | 02 | January 21, 2003.
MD80-24-181, Excluding Appendix | 02 | January 21, 2003.
MD80-24-182, Excluding Appendix | 02 | January 21, 2003.

This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on January 8, 2004.

Issued in Renton, Washington, on November 26, 2003.
Kalene C. Yanamura,
Acting Manager, Transport Airplane Directorate, Aircraft Certification Service.

[FR Doc. 03-30111 Filed 12-3-03; 8:45 am]

BILLING CODE 4910-13-P